DEPARTMENT OF THE INTERIOR

Fish and Wildlife Service

[FWS-R7-FHC-2010-N108; 71490-1351-0000-L5]

Letters of Authorization To Take Marine Mammals

AGENCY: Fish and Wildlife Service, Interior.

ACTION: Notice of issuance.

SUMMARY: In accordance with the Marine Mammal Protection Act of 1972, as amended (MMPA), we, the Fish and Wildlife Service, have issued letters of authorization for the nonlethal take of polar bears and Pacific walrus incidental to oil and gas industry exploration, development, and production activities in the Beaufort Sea and the adjacent northern coast of Alaska and incidental to oil and gas industry exploration activities in the Chukchi Sea and the adjacent western coast of Alaska.

FOR FURTHER INFORMATION CONTACT: Craig Perham at the Fish and Wildlife Service, Marine Mammals Management Office, 1011 East Tudor Road, Anchorage, AK 99503; (800) 362-5148 or (907) 786-3810.

SUPPLEMENTARY INFORMATION: On August 2, 2006, we published in the Federal Register a final rule (71 FR 43926) establishing regulations that allow us to authorize the nonlethal, incidental, unintentional take of small numbers of polar bears and Pacific walrus during year-round oil and gas industry exploration, development, and production activities in the Beaufort Sea and adjacent northern coast of Alaska. The rule established subpart J in part 18 of title 50 of the Code of Federal Regulations (CFR) and is effective until August 2, 2011. The rule prescribed a process under which we issue letters of authorization (LOAs) to applicants conducting activities as described under the provisions of the regulations. In accordance with section 101(a)(5)(A) of the MMPA and our regulations at 50 CFR part 18, subpart J, we issued an LOA to each of the following companies in the Beaufort Sea and adjacent northern coast of Alaska:

Beaufort Sea, Letters of Authorization

Company | Activity | Project | Date issued
BP Exploration Alaska, Inc | Development | Liberty Development Project | 04 January 2010.
Brooks Range Petroleum Corp | Exploration | North Shore and Sak River Exploration Programs | 05 January 2010.
Brooks Range Petroleum Corp | Exploration | North Tarn Exploration Program | 09 February 2010.
ConocoPhillips Alaska, Inc | Exploration | Seismic Exploration Program—Alpine 3D | 20 January 2010.
ConocoPhillips Alaska, Inc | Development | West Mikkelsen State #1 | 20 January 2010.
Eni US Operating Co. Inc | Development | Nikaitchuq Development Program | 25 February 2010.
ExxonMobil Production Company | Development | Point Thomson | 20 January 2010.
Marsh Creek, LLC | Development | Drew Point Test Well #1 | 03 February 2010.
Savant Alaska, LLC | Development | Badami Unit Redevelopment Project | 29 January 2010.
Shell Offshore, Inc | Development | On-Ice Argos Data Buoy Deployment Program | 04 January 2010.
Shell Offshore, Inc | Exploration | Beaufort Open Water Marine Survey Program | 19 May 2010.

On June 11, 2008, we published in the Federal Register a final rule (73 FR 33212) establishing regulations that allow us to authorize the nonlethal, incidental, unintentional take of small numbers of polar bears and Pacific walrus during year-round oil and gas industry exploration activities in the Chukchi Sea and adjacent western coast of Alaska. The rule established subpart I of 50 CFR part 18 and is effective until June 11, 2013. The rule prescribed a process under which we issue LOAs to applicants conducting activities as described under the provisions of the regulations. In accordance with section 101(a)(5)(A) of the MMPA and our regulations at 50 CFR part 18, subpart I, we issued an LOA to the following company in the Chukchi Sea:

Chukchi Sea, Letters of Authorization

Company | Activity | Project | Date issued
Shell Offshore, Inc | Exploration | Chukchi Open Water Marine Survey Program | 19 May 2010.

For information on other recent LOAs issued under 50 CFR part 18, subparts I and J, see our notices published in the Federal Register on December 8, 2009 (74 FR 64710), and October 15, 2008 (73 FR 61158 and 61159).

Dated: July 6, 2010.
Timothy R. Jennings,
Acting Regional Director.

[FR Doc. 2010-18394 Filed 7-26-10; 8:45 am]

BILLING CODE 4310-55-P